DEPARTMENT OF ENERGY

Federal Energy Regulatory Commission

[Docket Nos. EL19-19-000, EL19-20-000, EL19-21-000]

Bayou Cove Peaking Power, LLC; Louisiana Generating LLC; Big Cajun I Peaking Power LLC; Notice of Institution of Section 206 Proceeding and Refund Effective Date

On December 12, 2018, the Commission issued an order in Docket Nos. EL19-19-000, EL19-20-000, and EL19-21-000, pursuant to section 206 of the Federal Power Act (FPA), 16 U.S.C. 824e (2012), instituting an investigation into whether the above-captioned entities' proposed Rate Schedules for Reactive Service may be unjust and unreasonable. Bayou Cove Peaking Power, LLC, et al., 165 FERC 61,227 (2018).

The refund effective date in Docket Nos. EL19-19-000, EL19-20-000, and EL19-21-000, established pursuant to section 206(b) of the FPA, will be the date of publication of this notice in the Federal Register.

Any interested person desiring to be heard in Docket Nos. EL19-19-000, EL19-20-000, and EL19-21-000 must file a notice of intervention or motion to intervene, as appropriate, with the Federal Energy Regulatory Commission, 888 First Street, NE, Washington, DC 20426, in accordance with Rule 214 of the Commission's Rules of Practice and Procedure, 18 CFR 385.214 (2018), within 21 days of the date of issuance of the order.

Dated: December 12, 2018.
Nathaniel J. Davis, Sr.,
Deputy Secretary.

[FR Doc. 2018-27319 Filed 12-17-18; 8:45 am]

BILLING CODE 6717-01-P